DEPARTMENT OF HEALTH AND HUMAN SERVICES

Centers for Disease Control and Prevention

[60Day-14-0800]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Focus Group Testing to Effectively Plan and Tailor Cancer Prevention and Control Communication Campaigns (OMB No. 0920-0800, expires 11/30/2014)—Extension—National Center for Chronic Disease Prevention and Health Promotion (NCCDPHP), Centers for Disease Control and Prevention (CDC).

Background and Brief Description

The mission of the CDC's Division of Cancer Prevention and Control (DCPC) is to reduce the burden of cancer in the United States through cancer prevention, reduction of risk, early detection, better treatment, and improved quality of life for cancer survivors. Toward this end, the DCPC supports the scientific development and implementation of various health communication campaigns with an emphasis on specific cancer burdens. This process requires testing of messages, concepts, and materials prior to their final development and dissemination, as described in the second step of the health communication process. The health communication process is a scientific model developed by the U.S. Department of Health and Human Services' National Cancer Institute to guide sound campaign development.

The communication literature supports various data collection methods, one of which is focus groups, to conduct credible formative, concept, message, and materials testing. The purpose of focus groups is to ensure that the public and other key audiences, like health professionals, clearly understand cancer-specific information and concepts, are motivated to take the desired action, and do not react negatively to the messages. CDC is currently approved to collect information needed to plan and tailor cancer communication campaigns (OMB No. 0920-0800, exp. 11/30/2014), and seeks OMB approval to extend the existing generic clearance.

Information collection will involve focus groups to assess numerous qualitative dimensions of cancer prevention and control messages including, but not limited to, cancer knowledge, attitudes, beliefs, behavioral intentions, information needs and sources, clinical practices (among health care providers), and compliance with recommended cancer screening. Insights gained from the focus groups will assist in the development and/or refinement of future campaign messages and materials. Respondents will include health care providers as well as members of the general public. Communication campaigns and messages will vary according to the type of cancer, the qualitative dimensions of the message described above, and the type of respondents.

DCPC plans to conduct or sponsor up to 80 focus groups per year over a three-year period. An average of 10 respondents will participate in each focus group discussion. DCPC has developed a set of example questions that can be used to develop a discussion guide for each focus group activity. The average burden for response for each focus group will be two hours. DCPC has also developed a set of example questions that can be tailored to screen for targeted groups of respondents. The average burden per response for screening and recruitment is three minutes. A separate information collection request will be submitted to OMB for approval of each focus group activity. The request will describe the purpose of the activity and include the customized information collection instruments.

OMB approval is requested for three years. There are no changes to information collection purpose or methodology. There are minor reductions in the annualized estimates for the number of respondents and the number of burden hours. Participation is voluntary and there are no costs to respondents except their time.

Estimated Annualized Burden Hours
Type of respondent | Form name | Number of respondents | Number of responses per respondent | Average burden per response (in hours) | Total burden hours
Health care providers | Screening form | 800 | 1 | 3/60 | 40
| Focus Group Discussion Guide | 400 | 1 | 2 | 800
General Public | Screening form | 800 | 1 | 3/60 | 40
| Focus Group Discussion Guide | 400 | 1 | 2 | 800
Total |  |  |  |  | 1,680

Leroy Richardson,
Chief, Information Collection Review Office, Office of Scientific Integrity, Office of the Associate Director for Science, Office of the Director, Centers for Disease Control and Prevention.

[FR Doc. 2014-14834 Filed 6-24-14; 8:45 am]

BILLING CODE 4163-18-P